DEPARTMENT OF HEALTH AND HUMAN SERVICES

[Document Identifier OS-0990-New]

Agency Information Collection Request; 60-Day Public Comment Request

Agency: Office of the Secretary, HHS.

In compliance with the requirement of section 3506(c)(2)(A) of the Paperwork Reduction Act of 1995, the Office of the Secretary (OS), Department of Health and Human Services, is publishing the following summary of a proposed information collection request for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

To obtain copies of the supporting statement and any related forms for the proposed paperwork collections referenced above, e-mail your request, including your address, phone number, OMB number, and OS document identifier, to Sherette.funncoleman@hhs.gov, or call the Reports Clearance Office on (202) 690-6162. Written comments and recommendations for the proposed information collections must be directed to the OS Paperwork Clearance Officer at the above e-mail address within 60-days.

Proposed Project: Assessing the Availability of Primary Care Physicians Accepting New Patients and Timeliness of Services for New Patients Using a Mystery Shopper Approach—OMB No. 0990-NEW—Assistant Secretary Planning Evaluation (ASPE).

Abstract: The Office of the Assistant Secretary for Planning and Evaluation (ASPE) is requesting Office of Management and Budget (OMB) approval on a new collection to utilize a mystery shopper approach to collect data from physician offices in order to accurately gauge availability of Primary Care Physicians (PCPs) accepting new patients, assess the timeliness of services from PCPs, and gain insight into the precise reasons that PCP availability is lacking. This study will provide current information on the availability and accessibility of PCPs to publicly and privately insured patients with a range of medical needs. To conduct this study, ASPE will contact 465 PCPs in each of the nine selected states. Each PCP's office will be contacted twice; once using a privately insured patient scenario, and once using a publicly insured patient scenario. The scenarios will simulate requests for an appointment with the sampled PCP from a new patient with both public or private insurance and either an urgent medical concern or routine exam appointment. A standard protocol will accompany each patient scenario, ensuring that the key research questions are addressed and the necessary standardized information from the calls is collected. Additionally, 465 PCPs across all the nine states will be contacted a third time using a direct questioning approach. These physicians will be informed about the study and asked directly if they are accepting new patients and how long it would take to obtain an appointment. The purpose of this additional data collection component is to evaluate the validity of the mystery shopper approach in generating accurate estimates of physician availability and timeliness of services. Data collection activities will be completed within 4 months of OMB Clearance.

Estimated Annualized Burden Table
Type of respondent | Number of respondents | Responses per respondent | Total responses | Hours per response | Total burden hours
PCP Office Staff (Mystery Shopper) | 4,185 | 2 | 8,370 | 5/60 | 698
PCP Office Staff (Direct Questioning) | 465 | 1 | 465 | 5/60 | 39
Total |  |  |  |  | 737

Mary Forbes,
Paperwork Reduction Act Reports Clearance Officer, Office of the Secretary.

[FR Doc. 2011-10251 Filed 4-27-11; 8:45 am]

BILLING CODE 4150-05-P